ENVIRONMENTAL PROTECTION AGENCY

[FRL-9154-7]

Science Advisory Board Staff Office; Notification of a Public Meeting of the SAB Panel for the Review of Effects of Mountaintop Mines and Valley Fills on Aquatic Ecosystems and Aquatic Life Benchmark for Conductivity

AGENCY: Environmental Protection Agency (EPA).

ACTION: Notice.

SUMMARY: The EPA Science Advisory Board (SAB) Staff Office announces a public meeting of the SAB Panel for the review of two EPA draft documents on the Effects of Mountaintop Mines and Valley Fills on Aquatic Ecosystems, and on Aquatic Life Benchmark for Conductivity.

DATES: The public meeting will be held on July 20, 2010 from 8:30 a.m. to 5 p.m. (Eastern Daylight Time), July 21, 2010 from 8:30 a.m. to 5 p.m., and July 22, 2010 from 8 a.m. to 12 p.m. (Eastern Daylight Time).

ADDRESSES: The face-to-face meeting on July 20-22, 2010 will be held at the Washington Plaza Hotel at 10 Thomas Circle, NW., Washington, DC 20005; telephone (202) 842-1300.

FOR FURTHER INFORMATION CONTACT: Any member of the public wishing to obtain information concerning the public meeting may contact Mr. Edward Hanlon, Designated Federal Officer (DFO), EPA Science Advisory Board Staff Office (1400F), U.S. Environmental Protection Agency, 1200 Pennsylvania Avenue, NW., Washington, DC 20460; by telephone/voice mail at (202) 343-9946 or at hanlon.edward@epa.gov. General information about the SAB, as well as any updates concerning the meeting announced in this notice, may be found on the EPA Web site at http://www.epa.gov/sab.

SUPPLEMENTARY INFORMATION: Pursuant to the Federal Advisory Committee Act (FACA), 5 U.S.C., App. 2, notice is hereby given that the SAB Mountaintop Mining/Valley Fill/Conductivity Review Panel will hold a public face-to-face meeting to conduct a peer review of the EPA's draft technical documents, The Effects of Mountaintop Mines and Valley Fills on Aquatic Ecosystems of the Central Appalachian Coalfields External Review Draft (December 2009), and Field-Based Aquatic Life Benchmark for Conductivity in Central Appalachian Streams, External Review Draft (March 2010). The SAB was established pursuant to 42 U.S.C. 4365 to provide independent scientific and technical advice to the Administrator on the technical basis for Agency positions and regulations.

The SAB is a Federal Advisory Committee chartered under FACA. The SAB will comply with the provisions of FACA and all appropriate SAB Staff Office procedural policies.

Background: EPA's Office of Research and Development (ORD) prepared a scientific assessment of the ecological impacts related to mountaintop mining and valley-fill operations entitled “The Effects of Mountaintop Mines and Valley Fills on Aquatic Ecosystems of the Central Appalachian Coalfields.” The scope of this assessment includes: loss of headwater streams, downstream water quality and subsequent effects on in-stream biota, and cumulative ecological impacts. In addition, the draft assessment evaluates restoration and recovery methods used by mining companies to address these ecological impacts associated with mountaintop mining and valley-fill operations. ORD also developed the “Field-Based Aquatic Life Benchmark for Conductivity in Central Appalachian Streams” report that uses field data to derive an aquatic life benchmark value for conductivity (a measure of salinity) that may be applied to waters in the Appalachian Region that are dominated by salts of SO4²⁻ and HCO3−. ORD requested that the SAB review and provide advice on the scientific adequacy, suitability and appropriateness of both the draft Aquatic Ecosystem Report and the draft Conductivity Benchmark Report.

In response to ORD's request, the SAB Staff Office solicited nominations of experts and formed a review panel for the Review of Effects of Mountaintop Mines and Valley Fills on Aquatic Ecosystems, and Aquatic Life Benchmark for Conductivity [Federal Register Notice dated February 3, 2010 (75 FR 5589—5590)]. The panel will provide advice on the ecological impacts related to mountaintop mining and valley-fill operations and on deriving an aquatic benchmark for conductivity using field data. During the face-to-face meeting, the panel will review the technical documents.

Availability of Meeting Materials: Agendas and materials in support of this meeting will be placed on the EPA Web site at http://www.epa.gov/sab in advance of the meeting. For technical questions and information concerning EPA's draft document, please contact Dr. Michael Slimak, EPA Office of Research and Development (ORD), at (703) 347-8524 or by e-mail at slimak.michael@epa.gov.

Procedures for Providing Public Input: Public comment for consideration by EPA's federal advisory committees and panels has a different purpose from public comment provided to EPA program offices. Therefore, the process for submitting comments to a Federal advisory committee is different from the process used to submit comments to an EPA program office.

Federal advisory committees and panels, including scientific advisory committees, provide independent advice to EPA. Members of the public can submit comments for a Federal advisory committee to consider as it develops advice for EPA. They should send their comments directly to the Designated Federal Officer for the relevant advisory committee. Oral Statements: In general, individuals or groups requesting an oral presentation at a public meeting will be limited to five minutes per speaker, with no more than a total of one hour for all speakers. Each person making an oral statement should consider providing written comments as well as their oral statement so that the points presented orally can be expanded upon in writing. Interested parties should contact Mr. Edward Hanlon, DFO, in writing (preferably via e-mail) at the contact information noted above by July 13, 2010 to be placed on the list of public speakers at the face-to-face meeting. Written Statements: Written statements should be supplied to the DFO via email at the contact information noted above by July 13, 2010 so that the information may be made available to the Committee members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Mr. Edward Hanlon at (202) 343-9946 or at hanlon.edward@epa.gov. To request accommodation of a disability, please contact Mr. Hanlon preferably at least ten days prior to each meeting to give EPA as much time as possible to process your request.

Dated: May 18, 2010.
Anthony F. Maciorowski,
Deputy Director, EPA Science Advisory Staff Office.

[FR Doc. 2010-12617 Filed 5-24-10; 8:45 am]

BILLING CODE 6560-50-P